FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 13, 2012.

A. Federal Reserve Bank of Minneapolis (Jacqueline G. King, Community Affairs Officer) 90 Hennepin Avenue, Minneapolis, Minnesota 55480-0291:

1. Mark L. Hensley, Daniel J. Hensley, both of Kalispell, Montana, and Joan C. Hensley Brennan, Kirkland, Washington, as proposed general partners of the Hensley Family Limited Partnership, Kalispell, Montana, to acquire additional voting shares of Valley Bancshares, Inc., Kalispell, Montana, and thereby indirectly acquire Valley Bank of Kalispell, Kalispell, Montana.

B. Federal Reserve Bank of Kansas City (Dennis Denney, Assistant Vice President) 1 Memorial Drive, Kansas City, Missouri 64198-0001:

1. Toby J. Strom and Julie A. Strom, both of Oskaloosa, Iowa; and Shawn P. Lueger, Seneca, Kansas; to retain control of Community Bancshares, Inc., parent of Community National Bank, both in Seneca, Kansas.

Board of Governors of the Federal Reserve System, January 24, 2012.
Robert deV. Frierson,
Deputy Secretary of the Board.

[FR Doc. 2012-1761 Filed 1-26-12; 8:45 am]

BILLING CODE 6210-01-P